ENVIRONMENTAL PROTECTION AGENCY

[FRL-7613-4]

Public Water Supply Supervision Program Revision for the State of New Jersey

AGENCY: Environmental Protection Agency (EPA).

ACTION: Notice of Tentative Approval and Solicitation of Request for a Public Hearing for Public Water System Supervision Program Revision for the State of New Jersey.

SUMMARY: Notice is hereby given that the United States Environmental Protection Agency (EPA) has determined to approve an application by the State of New Jersey to revise its Public Water System Supervision Primacy Program to incorporate regulations no less stringent than EPA's National Primary Drinking Water Regulations (NPDWR) for the following: Lead and Copper Rule Technical Correction; Final Rule, promulgated by EPA on June 30, 1994 (59 FR 33860), Analytical Methods Technical Corrections; Final Rule, promulgated by EPA on December 5, 1994 (59 FR 62456), Analytical Methods Technical Corrections; Final Rule, promulgated by EPA on June 29, 1995 (60 FR 34083), Analytical Methods for Radionuclides Technical Corrections, promulgated by EPA on March 5, 1997 (62 FR 10168), Revisions to State Primacy Requirements to Implement Safe Drinking Water Act Amendments; Final Rule (Primacy Revisions), promulgated by EPA on April 28, 1998 (63 FR 23362), Removal of Prohibition on the Use of Point of Use Devices for Compliance with the NPDWR, promulgated by EPA on June 11, 1998 (63 FR 31932), Revision of Existing Variance and Exemption Regulations To Comply With Requirements of the Safe Drinking Water Act; Final Rule, promulgated by EPA on August 14, 1998 (63 FR 43834), Consumer Confidence Reports; Final Rule, promulgated by EPA on August 19, 1998 (63 FR 44512), along with 6 separate Technical Corrections to the Consumer Confidence Reports, promulgated as follows: December 16, 1998 (63 FR 69475 and 63 FR 69516), June 29, 1999 (64 FR 34732), September 14, 1999 (64 FR 49671), May 4, 2000 (65 FR 25981), November 27, 2002 (67 FR 70850), and December 9, 2002 (67 FR 73011), the Disinfectants and Disinfection Byproducts; Final Rule, and Interim Enhanced Surface Water Treatment; Final Rule, both promulgated December 16, 1998 (63 FR 69390 and 63 FR 69478, respectively), the Suspension of Unregulated Contaminant Monitoring Requirements for Small Public Water Systems, promulgated by EPA January 8, 1999 (64 FR 1494), the Lead and Copper Rule Minor Revisions, promulgated by EPA January 12, 2000 (65 FR 1950), the Public Notification Rule, promulgated by EPA May 4, 2000 (65 FR 25982 ), along with 2 separate Technical Corrections to the Public Notification Rule, promulgated as follows: June 21, 2000 (65 FR 38629) and June 30, 2000 (65 FR 40520), the Radionuclide Rule, promulgated by EPA December 7, 2000 (65 FR 76708), Revisions to the Interim Enhanced Surface Water Treatment Rule and the Stage 1 Disinfectants and Disinfection Byproducts Rule and Revisions to State Primacy Requirements to Implement the Safe Drinking Water Act Amendments, Final Rule, promulgated by EPA January 16, 2001 (66 FR 3770), the Filter Backwash Recycling Rule, promulgated by EPA June 8, 2001 (66 FR 31086) and the Long Term 1 Enhanced Surface Water Treatment Rule, promulgated by EPA January 14, 2002 (67 FR 1812).

The application demonstrates that New Jersey has adopted drinking water regulations which satisfy the NPDWRs for the above. The USEPA has determined that New Jersey's regulations are no less stringent than the corresponding Federal Regulations and that New Jersey continues to meet all requirements for primary enforcement responsibility as specified in 40 CFR 142.10.

DATES: This determination to approve New Jersey's primacy program revision application is made pursuant to 40 CFR 142.12(d)(3). It shall become final and effective February 26, 2004 unless (1) a timely and appropriate request for a public hearing is received or (2) the Regional Administrator elects to hold a public hearing on her own motion. Any interested person, other than Federal Agencies, may request a public hearing. A request for a public hearing must be submitted to the Regional Administrator at the address shown below by February 26, 2004. If a substantial request for a public hearing is made within the requested thirty day time frame, a public hearing will be held and a notice will be given in the Federal Register and a newspaper of general circulation. Frivolous or insubstantial requests for a hearing may be denied by the Regional Administrator. If no timely and appropriate request for a hearing is received and the Regional Administrator does not elect to hold a hearing on her own motion, this determination shall become final and effective February 26, 2004.

Any request for a public hearing shall include the following information: (1) Name, address and telephone number of the individual, organization or other entity requesting a hearing; (2) a brief statement of the requesting person's interest in the Regional Administrator's determination and a brief statement on information that the requesting person intends to submit at such hearing; (3) the signature of the individual making the request or, if the request is made on behalf of an organization or other entity, the signature of a responsible official of the organization or other entity.

ADDRESSES: Requests for Public Hearing shall be addressed to:

Regional Administrator, U.S. Environmental Protection Agency—Region 2, 290 Broadway, New York, New York 10007-1866.

All documents relating to this determination are available for inspection between the hours of 9 a.m. and 4:30 p.m., Monday through Friday, at the following offices: Bureau of Safe Drinking Water, Division of Water Resources, New Jersey Department of Environmental Protection, 401 East State Street, Floor 3, Trenton, New Jersey 08625-0426. U.S. Environmental Protection Agency—Region 2, 24th Floor Drinking Water Section, 290 Broadway, New York, New York 10007-1866.

FOR FURTHER INFORMATION CONTACT: Michael J. Lowy, Drinking Water Section, U.S. Environmental Protection Agency—Region 2, (212) 637-3830.

Authority: (Section 1413 of the Safe Drinking Water Act, as amended, 40 U.S.C. 300g-2, and 40 CFR 142.10, 142.12(d) and 142.13).

Anthony Canco,
Acting Regional Administrator, Region 2.

[FR Doc. 04-1684 Filed 1-26-04; 8:45 am]

BILLING CODE 6560-50-P